DEPARTMENT OF ENERGY

Federal Energy Regulatory Commission

Combined Notice of Filings #1

Take notice that the Commission received the following electric corporate filings:

Docket Numbers: EC26-48-000.

Applicants: IN Solar 1, LLC, Duke Energy Indiana, LLC.

Description: Joint Application for Authorization Under Section 203 of the Federal Power Act of Duke Energy Indiana, LLC, et al.

Filed Date: 1/14/26.

Accession Number: 20260114-5194.

Comment Date: 5 p.m. ET 2/4/26.

Take notice that the Commission received the following exempt wholesale generator filings:

Docket Numbers: EG26-136-000.

Applicants: Mammoth Plains Energy Storage, LLC.

Description: Mammoth Plains Energy Storage, LLC submits Notice of Self-Certification of Exempt Wholesale Generator Status.

Filed Date: 1/15/26.

Accession Number: 20260115-5110.

Comment Date: 5 p.m. ET 2/5/26.

Take notice that the Commission received the following Complaints and Compliance filings in EL Dockets:

Docket Numbers: EL26-40-000.

Applicants: Public Citizen, Inc. v. Public Service Electric and Gas Company.

Description: Complaint of Public Citizen, Inc. v. Public Service Electric and Gas Company.

Filed Date: 1/14/26.

Accession Number: 20260114-5199.

Comment Date: 5 p.m. ET 2/3/26.

Take notice that the Commission received the following electric rate filings:

Docket Numbers: ER25-3070-003.

Applicants: Midcontinent Independent System Operator, Inc., Indianapolis Power & Light Company.

Description: Tariff Amendment: Indianapolis Power & Light Company submits tariff filing per 35.17(b): 2026-01-15_3rd Amendment IPL dba AES Transition to Forward Looking Formula Rate to be effective 1/1/2026.

Filed Date: 1/15/26.

Accession Number: 20260115-5169.

Comment Date: 5 p.m. ET 2/5/26.

Docket Numbers: ER26-228-002.

Applicants: Interstate Power and Light Company, ITC Midwest LLC.

Description: Tariff Amendment: Interstate Power and Light Company submits tariff filing per 35.17(b): Amended Update to O&T Agreement Exhibits and Appendices (2025) to be effective 12/23/2025.

Filed Date: 1/14/26.

Accession Number: 20260114-5181.

Comment Date: 5 p.m. ET 2/4/26.

Docket Numbers: ER26-326-001.

Applicants: Michigan Power Limited Partnership.

Description: Tariff Amendment: Michigan Power Limited Partnership submits tariff filing per 35.17(b): Supplement to Change in Status to be effective 10/31/2025.

Filed Date: 1/15/26.

Accession Number: 20260115-5002.

Comment Date: 5 p.m. ET 2/5/26.

Docket Numbers: ER26-1043-000.

Applicants: PJM Interconnection, L.L.C.

Description: § 205(d) Rate Filing: PJM Interconnection, L.L.C. submits tariff filing per 35.13(a)(2)(iii: Amendment to GIA, Service Agreement No. 7247; Project Identifier No. AF1-228 to be effective 3/17/2026.

Filed Date: 1/15/26.

Accession Number: 20260115-5040.

Comment Date: 5 p.m. ET 2/5/26.

Docket Numbers: ER26-1044-000.

Applicants: Southwest Power Pool, Inc.

Description: Tariff Amendment: Southwest Power Pool, Inc. submits tariff filing per 35.15: 1135R1 Public Service Co of OK and GRDA Inter Agr Cancel to be effective 12/31/2025.

Filed Date: 1/15/26.

Accession Number: 20260115-5048.

Comment Date: 5 p.m. ET 2/5/26.

Docket Numbers: ER26-1045-000.

Applicants: Tucson Electric Power Company.

Description: § 205(d) Rate Filing: Tucson Electric Power Company submits tariff filing per 35.13(a)(2)(iii: Service Agreement No. 621 to be effective 1/16/2026.

Filed Date: 1/15/26.

Accession Number: 20260115-5052.

Comment Date: 5 p.m. ET 2/5/26.

Docket Numbers: ER26-1046-000.

Applicants: Tucson Electric Power Company.

Description: § 205(d) Rate Filing: Service Agreement No. 622 to be effective 1/16/2026.

Filed Date: 1/15/26.

Accession Number: 20260115-5054.

Comment Date: 5 p.m. ET 2/5/26.

Docket Numbers: ER26-1047-000.

Applicants: Midcontinent Independent System Operator, Inc.

Description: § 205(d) Rate Filing: 2026-01-15_SA 3795 Ameren Missouri-Kelso Solar 2nd Rev GIA (J1087) to be effective 12/31/2025.

Filed Date: 1/15/26.

Accession Number: 20260115-5059.

Comment Date: 5 p.m. ET 2/5/26.

Docket Numbers: ER26-1048-000.

Applicants: Badger Wind, LLC.

Description: Initial rate filing: Filing of Badger Wind Co-Tenancy Agreement to be effective 1/16/2026.

Filed Date: 1/15/26.

Accession Number: 20260115-5113.

Comment Date: 5 p.m. ET 2/5/26.

Docket Numbers: ER26-1049-000.

Applicants: PacifiCorp.

Description: § 205(d) Rate Filing: Revised Certificate of Concurrence (RS No. 381) to be effective 12/10/2025.

Filed Date: 1/15/26.

Accession Number: 20260115-5115.

Comment Date: 5 p.m. ET 2/5/26.

Docket Numbers: ER26-1050-000.

Applicants: American Powernet Management, LLC.

Description: § 205(d) Rate Filing: Notice of Succession of American PowerNet Management, LLC to be effective 3/16/2026.

Filed Date: 1/15/26.

Accession Number: 20260115-5125.

Comment Date: 5 p.m. ET 2/5/26.

Docket Numbers: ER26-1051-000.

Applicants: APN Starfirst, LLC.

Description: § 205(d) Rate Filing: Notice of Succession and MBR Tariff Edits—APN Starfirst to be effective 3/16/2026.

Filed Date: 1/15/26.

Accession Number: 20260115-5130.

Comment Date: 5 p.m. ET 2/5/26.

Docket Numbers: ER26-1052-000.

Applicants: Midcontinent Independent System Operator, Inc., International Transmission Company.

Description: § 205(d) Rate Filing: International Transmission Company submits tariff filing per 35.13(a)(2)(iii: 2026-01-15_SA 4662 ITCTransmission-Big Mitten Energy E&P (J2590) to be effective 1/13/2026.

Filed Date: 1/15/26.

Accession Number: 20260115-5135.

Comment Date: 5 p.m. ET 2/5/26.

Docket Numbers: ER26-1053-000.

Applicants: Florida Power & Light Company.

Description: § 205(d) Rate Filing: Construction Agrmt for Establishment of Pseudo-Ties to Seminole Delivery Points to be effective 1/16/2026.

Filed Date: 1/15/26.

Accession Number: 20260115-5167.

Comment Date: 5 p.m. ET 2/5/26.

Take notice that the Commission received the following electric securities filings:

Docket Numbers: ES26-25-000.

Applicants: Consolidated Edison Company of New York, Inc.

Description: Application Under Section 204 of the Federal Power Act for Authorization to Issue Securities of Consolidated Edison Company of New York, Inc.

Filed Date: 1/12/26.

Accession Number: 20260112-5262.

Comment Date: 5 p.m. ET 2/2/26.

Docket Numbers: ES26-26-000.

Applicants: MidAmerican Energy Company.

Description: Application Under Section 204 of the Federal Power Act for Authorization to Issue Securities of MidAmerican Energy Company.

Filed Date: 1/14/26.

Accession Number: 20260114-5193.

Comment Date: 5 p.m. ET 2/4/26.

Take notice that the Commission received the following public utility holding company filings:

Docket Numbers: PH26-7-000.

Applicants: BlackRock, Inc.

Description: BlackRock, Inc. submits FERC 65-B Notice of Change in Fact to Waiver Notification.

Filed Date: 1/14/26.

Accession Number: 20260114-5198.

Comment Date: 5 p.m. ET 2/4/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 15, 2026.
Debbie-Anne A. Reese,
Secretary.

[FR Doc. 2026-01081 Filed 1-20-26; 8:45 am]

BILLING CODE 6717-01-P